DEPARTMENT OF COMMERCE

National Oceanic and Atmospheric Administration

[RTID 0648-XB731]

Marine Mammals; File No. 22260

AGENCY: National Marine Fisheries Service (NMFS), National Oceanic and Atmospheric Administration (NOAA), Commerce.

ACTION: Notice; receipt of application.

SUMMARY: Notice is hereby given that Allyson Hindle, Ph.D., University of Nevada Las Vegas, 4505 S Maryland Parkway, Las Vegas, NV 89154, has applied in due form for a permit to conduct research on Weddell seals (Leptonychotes weddellii).

DATES: Written, telefaxed, or email comments must be received on or before February 25, 2022.

ADDRESSES: The application and related documents are available for review by selecting “Records Open for Public Comment” from the “Features” box on the Applications and Permits for Protected Species (APPS) home page, https://apps.nmfs.noaa.gov, and then selecting File No. 22260 from the list of available applications. These documents are also available upon written request via email to NMFS.Pr1Comments@noaa.gov.

Written comments on this application should be submitted via email to NMFS.Pr1Comments@noaa.gov. Please include File No. 22260 in the subject line of the email comment.

Those individuals requesting a public hearing should submit a written request via email to NMFS.Pr1Comments@noaa.gov. The request should set forth the specific reasons why a hearing on this application would be appropriate.

FOR FURTHER INFORMATION CONTACT: Sara Young or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes multiple studies to investigate how physiology supports and limits hypoxia tolerance in diving marine mammals. The applicant proposes to take 30 adult Weddell seals at an isolated dive hole and 36 free-ranging adult Weddell seals in Erebus Bay, Antarctica over two field seasons, with up to two unintentional mortalities proposed annually. Animals may be taken via capture, restraint, transport, anesthesia and sedation, external and internal instrumentation, biological sampling, marking, weighing, and ultrasound. The number of times an animal may receive a specific procedure is dependent on which of the four experimental groups it is assigned. Animals transported to remote breathing holes for dive tests will be held at the location for approximately six days before being returned to their original location of capture. Samples collected during these studies may be exported to the United States for analysis. While only 2 years of field study would be authorized, the permit would remain valid for 5 years to allow additional time for sample importation.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 20, 2022.
Julia M. Harrison,
Chief, Permits and Conservation Division, Office of Protected Resources, National Marine Fisheries Service.

[FR Doc. 2022-01491 Filed 1-25-22; 8:45 am]

BILLING CODE 3510-22-P